ENVIRONMENTAL PROTECTION AGENCY

[EPA-R06-RCRA-2025-3129; FRL-13097-01-R6]

No-Migration Variance From Land Disposal Restrictions for Clean Harbors Lone Mountain, Oklahoma

Correction

Document, 2025-22553, appearing on pages 57436 through 57442, in the issue of Thursday, December 11, 2025, was inadvertently categorized and published as a “Proposed Rule” and is hereby recategorized as a “Notice”.

[FR Doc. C1-2025-22553 Filed 12-29-25; 8:45 am]

BILLING CODE 0099-10-D